GENERAL SERVICES ADMINISTRATION

[Notice-QDA-2012-01; Docket No. 2012-0002; Sequence 17]

Multiple Award Schedule (MAS) Program Continuous Open Season—Operational Change; Extension of Comment Period

AGENCY: Federal Acquisition Service (FAS), General Services Administration (GSA).

ACTION: Notice with a request for comments; extension of comment period.

SUMMARY: The General Services Administration (GSA), Federal Acquisition Service (FAS) issued a notice on July 23, 2012. The comment period is extended to provide additional time for interested parties to the review and submit comments on the notice.

DATES: The comment period for the notice published in the Federal Register at 77 FR 43084, July 23, 2012, is extended for 30 days after publication in the Federal Register.

This change in operations will become effective 60 days after publication in the Federal Register.

Comment Date: Interested parties should submit written comments to the Regulatory Secretariat at one of the addressees shown below on or before 30 days after publication in the Federal Register. This will allow GSA sufficient time to consider the comments prior to the effective date of this notice.

ADDRESSES: Submit comments in response to Notice-QDA-2012-01 by any of the following methods:

• Regulations.gov: http://www.regulations.gov. Submit comments via the Federal eRulemaking portal by searching for “Notice-QDA-2012-01”. Select the link “Submit a Comment” that corresponds with “Notice-QDA-2012-01.” Follow the instructions provided at the “Submit a Comment” screen. Please include your name, company name (if any), and “Notice-QDA-2012-01” on your attached document.

• FAX: (202) 501-4067.

• Mail: General Services Administration, Regulatory Secretariat (MVCB), ATTN: Hada Flowers, 1275 First Street NE., 7th Floor, Washington, DC 20417.

Instructions: Please submit comments only and cite Notice-QDA-2012-01, in all correspondence related to this case. All comments received will be posted without change to http://www.regulations.gov, including any personal and/or business confidential information provided.

FOR FURTHER INFORMATION CONTACT: Mrs. Angela Lehman, telephone 703-605-9541, email DemandBasedModel@gsa.gov.

SUPPLEMENTARY INFORMATION: The General Services Administration (GSA), Federal Acquisition Service (FAS) published a notice in the Federal Register at 77 FR 43084, July 23, 2012. The comment period is extended to provide additional time for interested parties to the review and submit comments on the notice.

Dated: September 12, 2012.
Houston Taylor,
Assistant Commissioner, Office of Acquisition Management, Federal Acquisition Service, General Services Administration.

[FR Doc. 2012-23607 Filed 9-24-12; 8:45 am]

BILLING CODE 6820-89-P